DEPARTMENT OF ENERGY

Federal Energy Regulatory Commission

[Project No. 12690-005]

Public Utility District No. 1 of Snohomish County, Washington; Notice of Revised Procedural Schedule for Processing the License Application

Based on the information in the record now, the Commission will continue processing the license application for the Admiralty Inlet Pilot Tidal Project according to the schedule below. Revisions to the schedule may be made as appropriate.

Milestone | Target date
Commission issues non-draft EA | January 18, 2013.
Comments on EA due | February 18, 2013.

Dated: November 19, 2012.
Kimberly D. Bose,
Secretary.

[FR Doc. 2012-28546 Filed 11-23-12; 8:45 am]

BILLING CODE 6717-01-P